DEPARTMENT OF THE INTERIOR

National Park Service

[NPS-WASO-NAGPRA-12465; PCU00RP14.R50000-PPWOCRADN0]

Notice of Inventory Completion: Center for Archaeological Research at the University of Texas at San Antonio, TX

AGENCY: National Park Service, Interior.

ACTION: Notice.

SUMMARY: The Center for Archaeological Research at the University of Texas at San Antonio has completed an inventory of human remains, in consultation with the appropriate Indian tribe, and has determined that there is a cultural affiliation between the human remains and a present-day Indian tribe. Representatives of any Indian tribe that believes itself to be culturally affiliated with the human remains may contact the Center for Archaeological Research at the University of Texas at San Antonio. Repatriation of the human remains to the Indian tribe stated below may occur if no additional claimants come forward.

DATES: Representatives of any Indian tribe that believes it has a cultural affiliation with the human remains should contact the Center for Archaeological Research at the University of Texas at San Antonio at the address below by May 10, 2013.

ADDRESSES: Cynthia Munoz, Center for Archaeological Research, 1 UTSA Circle, San Antonio, TX 78249, telephone (210) 458-4394.

SUPPLEMENTARY INFORMATION: Notice is here given in accordance with the Native American Graves Protection and Repatriation Act (NAGPRA), 25 U.S.C. 3003, of the completion of an inventory of human remains in the possession of the Center for Archaeological Research at the University of Texas at San Antonio, TX. The human remains were removed from site 41ZP144 in San Ygnacio, Zapata County, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Center for Archaeological Research at the University of Texas at San Antonio professional staff in consultation with representatives of the Mescalero Apache Tribe of the Mescalero Reservation, New Mexico.

History and Description of the Remains

In December 2012, as a result of a court order, human remains representing, at minimum, one individual were removed from site 41ZP144 in Zapata County, TX. The partial remains were recovered from a single grave in a prehistoric site in San Ygnacio. The burial was located under a paved street on a high terrace, 55 meters east of the Rio Grande River. In late 1991, the San Ygnacio Municipal Utility District was engaged in trenching for a wastewater pipeline installation. During the course of this work, the human remains were accidentally unearthed under caliche road material. Portions of the remains, consisting of the skull, vertebrae, rib cage, and left arm, were damaged by excavation machinery. The trenching was monitored by Archaeology Consultants Inc. of George West Texas. Work was stopped in the area of the find and the Zapata County Sheriff's office, the Texas Antiquities Committee, and the Office of the State Archeologist were contacted. The agencies agreed that the burial should only be exposed to the extent needed to determine its identity. The burial was determined to be Native American based on mussel shells and lithic debitage encountered in the burial fill. A radiocarbon assay of a bone sample dated the remains to AD 1400. The remains were reburied and a paved road was constructed over the burial. The 1991 work is reported in an archeological report titled: Monitoring for Cultural Resources in the San Ygnacio Wastewater Improvement Project, Zapata County, Texas, by James E. Warren.

In 2012, a Petition for Removal of Remains was filed by Zapata County. The petition was heard by the 49th Judicial Court of Webb-Zapata County and a court order was issued to allow for the removal of the human remains. The County of Zapata contracted with the Center for Archaeological Research at the University of Texas at San Antonio to exhume the burial. The partial remains of one adult individual were recovered. The remains are represented primarily by fragmented elements of the cranial vault, the right arm, the sacrum, the pelvis, and both legs. The sex of this individual is female based on traits associated with the pelvis. A specific age range determination was not possible; however, morphologic traits indicate that these remains are those of an adult who, most likely, was 20-35 years old at the time of death. No known individual was identified. No associated funerary objects are present.

The context and date of the burial (AD 1400) demonstrate the remains are of Native American ancestry. The femora are platymeric, a trait associated with Native Americans. Given the absence of associated artifacts, it is not possible to ascribe tribal affiliation, though the burial location is within the region of South Texas first inhabited by the Coahuiltecans (not a Federally-recognized tribe) and later by the Apaches. Apache tribes entered Texas relatively late in time, appearing in the Panhandle region in the 1500s, and in south Texas in the 1700s. This site is located within the land claim areas of the Mescalero Apache Tribe of the Mescalero Reservation, New Mexico.

Determinations Made by the Center for Archaeological Research at the University of Texas at San Antonio

Officials of the Center for Archaeological Research at the University of Texas at San Antonio have determined that:

• Pursuant to 25 U.S.C. 3001(9), the human remains described in this notice represent the physical remains of one individual of Native American ancestry.

• Pursuant to 25 U.S.C. 3001(2), there is a relationship of shared group identity that can be reasonably traced between the Native American human remains and the Mescalero Apache Tribe of the Mescalero Reservation, New Mexico.

Additional Requestors and Disposition

Representatives of any Indian tribe that believes itself to be culturally affiliated with the human remains should contact Cynthia Munoz, Center for Archaeological Research, 1 UTSA Circle, San Antonio, Texas, 78249, telephone (210) 458-4394, by May 10, 2013. Repatriation of the human remains to the Mescalero Apache Tribe of the Mescalero Reservation, New Mexico may proceed after that date if no additional claimants come forward.

The Center for Archaeological Research at the University of Texas at San Antonio is responsible for notifying the Mescalero Apache Tribe of the Mescalero Reservation New Mexico that this notice has been published.

Dated: February 28, 2013.
Sherry Hutt,
Manager, National NAGPRA Program.

[FR Doc. 2013-08370 Filed 4-9-13; 8:45 am]

BILLING CODE 4312-50-P